DEPARTMENT OF HEALTH AND HUMAN SERVICES

National Institutes of Health

National Center for Advancing Translational Sciences; Amended Notice of Meeting

Notice is hereby given of a change in the meeting of the National Center for Advancing Translational Sciences Advisory Council, June 13, 2016, 12:00 p.m. to June 13, 2016, 03:00 p.m., National Institutes of Health, 9800 Medical Center Drive, Located in the Board Room, Rockville, MD 20852 which was published in the Federal Register on May 27, 2016, 81FR33679.

Amendment to include a discussion of Proposed Office of Policy, Communications and Strategic Alliances Organizational Change. The meeting is partially Closed to the public. Any interested person may file written comments about the proposed reorganization with the committee by forwarding the statement to NCATSReorgComments@nih.gov by June 30, 2016. The statement should include the name, address, telephone number and when applicable, the business or professional affiliation of the interested person.

Dated: June 3, 2016.
Sylvia L. Neal,
Program Analyst, Office of Federal Advisory Committee Policy.

[FR Doc. 2016-13531 Filed 6-7-16; 8:45 am]

BILLING CODE 4140-01-P